DEPARTMENT OF DEFENSE

Department of the Army

Armament Retooling and Manufacturing Support Initiative Implementation

Correction

In notice document 02-4178 appearing on page 8010 in the issue of Thursday, February 21, 2001, make the following correction:

On page 8010, in the second column, under the heading “FOR FURTHER INFORMATION CONTACT:”, in the third line, “COM” should read, “CCM”.

[FR Doc. C2-4178 Filed 2-28-02; 8:45 am]

BILLING CODE 1505-01-D

DEPARTMENT OF DEFENSE

Department of the Army

Availability of Non-Exclusive, Exclusive, or Partially Exclusive Licensing of U.S. Patent Concerning Hantavirus Vaccine

Correction

In notice document 02-4181 appearing on page 8011 in the issue of Thursday, February 21, 2001, make the following correction:

On page 8011, in the second column, under the heading “SUPPLEMENTARY INFORMATION:”, in the last line “tin” should read, “tip”.

[FR Doc. C2-4181 Filed 2-28-02; 8:45 am]

BILLING CODE 1505-01-D

DEPARTMENT OF DEFENSE

Department of the Army

Availability of Non-Exclusive, Exclusive, or Partially Exclusive Licensing of U.S. Patent Concerning Temperature-Regulated Cell Perfusion Chamber

Correction

In notice document 02-4182 beginning on page 8011 in the issue of Thursday, February 21, 2001, make the following correction:

On page 8011, in the third column, under the heading “SUPPLEMENTARY INFORMATION:”, in the fourth line, “change” should read, “chain”.

[FR Doc. C2-4182 Filed 2-28-02; 8:45 am]

BILLING CODE 1505-01-D

DEPARTMENT OF TRANSPORTATION

Federal Transit Administration

[FTA Docket No. FTA-2002-11617]

Notice of Request for Revision of a Currently Approved Information Collection

Correction

In notice document 02-4283 appearing on page 8333, in the issue of Friday, February 22, 2002, make the following correction:

On page 8333, in the second column, the docket number is corrected to read as set forth above.

[FR Doc. C2-4283 Filed 2-28-02; 8:45 am]

BILLING CODE 1505-01-D